NUCLEAR REGULATORY COMMISSION

[Docket No. 52-042; NRC-2012-0165]

Exelon Generation Company, LLC, Victoria County Station Site; Notice of Withdrawal of Application for an Early Site Permit

By letter dated March 25, 2010, Exelon Nuclear Texas Holdings, LLC, (Exelon) submitted an application for an Early Site Permit (ESP) for the Victoria County Station (VCS) site located in Victoria County, Texas to the U.S. Nuclear Regulatory Commission (NRC or the Commission) in accordance with the requirements contained in part 52 of Title 10 of the Code of Federal Regulations (10 CFR), “Licenses, Certifications and Approvals for Nuclear Power Plants.”

A notice acknowledging receipt and availability of this application was published in the Federal Register on April 28, 2010 (75 FR 22434). On June 14, 2010 (75 FR 33653), a subsequent notice was published in the Federal Register announcing the acceptance of the VCS ESP application for docketing in accordance with 10 CFR part 2, “Rules of Practice for Domestic Licensing Proceedings and Issuance of Orders,” and 10 CFR part 52. The docket number established for this application is 52-042.

By letter dated August 28, 2012, Exelon requested that the VCS ESP application be withdrawn from the docket. Pursuant to the requirements in 10 CFR part 2, the Commission grants Exelon its request to withdraw the VCS ESP application.

Documents may be examined, and/or copied for a fee, at the NRC's Public Document Room (PDR), located at One White Flint North, Public File Area O1 F21, 11555 Rockville Pike (first floor), Rockville, Maryland. Publicly available records are accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 3rd day of October 2012.
For the Nuclear Regulatory Commission.
David B. Matthews,
Director, Division of New Reactor Licensing, Office of New Reactors.

[FR Doc. 2012-24922 Filed 10-9-12; 8:45 am]

BILLING CODE 7590-01-P